FEDERAL COMMUNICATIONS COMMISSION

[MD Docket No. 03-83; DA 03-2557]

Assessment and Collection of Regulatory Fees For Fiscal Year 2003

AGENCY: Federal Communications Commission.

ACTION: Notice.

SUMMARY: The Commission announces that Fiscal Year (FY) 2003 regulatory fees are due by September 24, 2003.

DATES: Effective September 11, 2003.

FOR FURTHER INFORMATION CONTACT: Roland Helvajian, Office of Managing Director at (202) 418-0444 or Rob Fream, Office of Managing Director at (202) 418-0408.

SUPPLEMENTARY INFORMATION:

Federal Communications Commission; Public Notice

Released: July 30, 2003.

Regulatory Fees Due September 24, 2003

The Federal Communications Commission announced today that Fiscal Year (FY) 2003 regulatory fee payments are due by September 24, 2003 from the over 2,200 companies in 47 regulated categories—such as television, radio, cable, wireless telephone, interstate telephone, satellite, paging/messaging, and microwave—who are required to pay fees by 47 U.S.C. 159 (Pub. L. 103-66). Cumulatively, Congress requires the Commission to collect $269,000,000 in regulatory fees for FY 2003. These fees are collected to recover the regulatory costs associated with the Commission's enforcement, policy and rulemaking, user information, and international activities.

What Do I Owe?

Regulatees pay differing fees dependent on a variety of factors such as number of subscribers, number of assigned telephone numbers, and revenue. Currently, regulatees must calculate the fees they owe based on these varying factors. In the future we hope to make the process simpler by sending all organizations a simple postcard with the amount owed.

To find out what your organization owes for FY 2003 Regulatory Fees—refer to the industry-appropriate What I Owe Fact Sheet.

Payment Process

Regulatory fee payments are due September 24, 2003. Payments may be made to Mellon Bank at any time through September 24, 2003. Payments received after 11:59 p.m. on September 24, 2003 will be assessed a 25% late payment penalty.

All payments MUST be accompanied by an FCC Registration Number (FRN). After completing Form 159 you can make payment by check, credit card, electronic transfer, or wire transfer. Checks must be mailed, along with Form 159 to: Federal Communications Commission, Regulatory Fees, P.O. Box 358835, Pittsburgh, PA 15251-5835.

If you prefer to send your payment by courier to a lockbox address your envelope and have it delivered to: Federal Communications Commission, Regulatory Fees, c/o Mellon Client Service Center, 500 Ross Street, Room 670, Pittsburgh, PA 15262-0001, Attn: FCC Module Supervisor.

Payments that are misdirected to the FCC in Washington, DC will be forwarded to Mellon Bank in Pittsburgh, PA; however, this could result in a late filing that would therefore be subject to the 25% late payment fee.

The quickest and easiest way to pay is using a credit card through the Fee Filer service (http://www.fcc.gov/fees/feefiler.html). For more information on acquiring a FRN—refer to the Use of the FCC Registration Number Fact Sheet; for more information on how to pay—refer to the Payment Methods Fact Sheet.

FCC Form 159 Remittance Advice

Form 159 (FCC Remittance Advice) and, as necessary, Form 159-C (Advice Continuation Sheet) must accompany all regulatory fee payments. Form 159 allows payers to report information on one or more payment items (e.g., revenues, call signs, or a combination of any two). Use Form 159-C to report additional payments. Reproduced forms are acceptable. Detailed instructions on how to correctly complete these forms are contained in the What You Owe Fact Sheets for each service category. You must list each entity separately on Forms 159/159-C. Written attachments are not acceptable. Failure to properly complete Forms 159/159-C will delay the processing of your regulatory fee payment.

Ways to obtain Form 159:

• Go to http://www.fcc.gov/formpage.html.

• Call the FCC's Form Distribution Center at 1-800-418-FORM [3676].

• Pick up the form at the Commission in Room TW-B200.

Regulatees may submit Form 159 information electronically by accessing the FCC Fee Filer system at http://www.fcc.gov/fees/feefiler.html. Information on how to file electronically via the Fee Filer system will follow in a subsequent Public Notice.

Other Questions

The following Fact Sheets are available on the Internet at http://www.fcc.gov/fees/regfees.html.

Use of the FCC Registration Number (FRN) is Mandatory

Waivers, Reductions and Deferments of Regulatory Fees

Payment Methods for Regulatory Fees

Regulatory Fee Exemptions

What You Owe—Interstate Telecommunications Service Providers

What You Owe—Cable Television Systems

What You Owe—Media Services Licensees

What You Owe—Commercial Wireless Services

What You Owe—International and Satellite Services Licensees

Additional Information

Those who do not have Internet access can obtain FCC forms by calling (800) 418-FORM (3676), or (202) 418-3676. Public Notices and Fact Sheets can be ordered by calling (888) 225-5322. Materials can also be obtained by writing to: Federal Communications Commission, ATTN: Consumer Information Center, 445 12th Street, SW., Washington, DC 20554.

Federal Communications Commission.
Marlene H. Dortch,
Secretary.

[FR Doc. 03-23130 Filed 9-10-03; 8:45 am]

BILLING CODE 6712-01-P